DEPARTMENT OF TRANSPORTATION

Federal Aviation Administration

14 CFR Part 71

[Docket No. FAA-2004-19334; Airspace Docket No. 04-ACE-63]

Modification of Class E Airspace; Sedalia, MO

Correction

In rule document 04-24259 beginning on page 63056 in the issue of Friday, October 29, 2004, make the following correction:

On page 63056, in the second column, the docket number is corrected to read as set forth above.

[FR Doc. C4-24259 Filed 11-26-04; 8:45 am]

BILLING CODE 1505-01-D